DEPARTMENT OF ENERGY

Federal Energy Regulatory Commission

[Project No. 11616-000-Michigan; Project No. 2566-010-Michigan]

City of Portland, Michigan, Consumers Energy Company; Notice of Availability of Draft Environmental Assessment

September 19, 2000.

In accordance with the National Environmental Policy Act of 1969 and the Federal Energy Regulatory Commission's (Commission's) regulations, 18 CFR Part 380 (Order No. 486, 52 FR 47897), the Office of Energy Projects has reviewed the City of Portland's application for original license for the operating unlicensed Portland Municipal Hydroelectric Project, and Consumers Energy Company's new license for the continued operation of the Webber Hydroelectric Project, located on the Grand River, in the City of Portland, Ionia County, Michigan, and has prepared a Draft Environmental Assessment (DEA) for the projects. In the DEA, the Commission's staff has analyzed the potential environmental effects of the projects and has concluded that licensing the projects, with staffs recommended measures, would not constitute a major federal action significantly affecting the quality of the human environment.

Copies of the DEA are available for review in the Public Reference Branch, Room 2-A, of the Commission's offices at 888 First Street, NE., Washington, DC 20426. The DEA may also be viewed on the web at http://www.ferc.us/online/rims.htm. Please call (202) 208-2222 for assistance.

Anyone may file comments on the EA. The public, federal and state resource agencies are encouraged to provide comments. All written comments must be filed within 45 days from the issuance date of this notice shown above. Send an original and eight copies of all comments marked with Project No. 11616-000 or Project No. 2566-010 to: The Secretary, Federal Energy Regulatory Commission, 888 First Street, NE., Washington, DC 20426. If you have any questions regarding this notice, please contact Tom Dean at (202) 219-2778.

David P. Boergers,
Secretary.

[FR Doc. 00-24515 Filed 9-22-00; 8:45 am]

BILLING CODE 6717-01-M